INTERNATIONAL TRADE COMMISSION

[Inv. No. 337-TA-660]

In the Matter of: Certain Active Comfort Footwear; Notice of Commission Determination To Terminate the Investigation

AGENCY: U.S. International Trade Commission.

ACTION: Notice.

SUMMARY: Notice is hereby given that the U.S. International Trade Commission has determined to terminate the investigation.

FOR FURTHER INFORMATION CONTACT: Mark B. Rees, Esq., Office of the General Counsel, U.S. International Trade Commission, 500 E Street, SW., Washington, DC 20436, telephone 202-205-3116. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on November 25, 2008, based on the complaint of Masai Marketing & Trading AG of Romanshorn, Switzerland and Masai USA Corp. of Haley, Idaho (“Complainants”). 73 FR 73884 (Nov. 25, 2008). The complaint, as supplemented, alleges violations of section 337 of the Tariff Act of 1930 (19 U.S.C. 1337) in the importation into the United States, the sale for importation, and the sale within the United States after importation of certain active comfort footwear that infringes certain claims of U.S. Patent No. 6,341,432. Complainants named as respondents RYN Korea Co., Ltd. of Seoul, Korea (“RYN”); Main d/b/a WalkingShoesPlus.com of Los Angeles, California (“WalkingShoesPlus”); and Feet First Inc. of Boca Raton, Florida (“Feet First”). The Tannery of Cambridge, Massachusetts and A Better Way to Health of West Melbourne, Florida were subsequently added as respondents in the investigation by an unreviewed initial determination (“ID”) (Order No. 4). 74 FR 11378 (Mar. 17, 2009).

On May 21, 2009, the Commission determined not to review an ID (Order No. 6) finding WalkingShoesPlus and Feet First in default for failure to respond to the complaint and notice of investigation.

On August 5, 2009, the Commission determined not to review an ID (Order No. 12) terminating the investigation based on a settlement agreement as to RYN and withdrawal of the complaint as to the remaining respondents. The Commission also requested briefing on remedy, bonding, and the public interest in connection with the defaulting respondents. 74 FR 40843 (Aug. 13, 2009).

Complainants and RYN filed a joint response to the Commission's request. The joint response states that Complainants do not believe that any remedy should be ordered against the defaulting parties and that Complainants therefore seek no relief against them. Complainants and RYN contend that the issuance of any remedy as to the defaulting parties would not be consistent with the spirit of the settlement agreement that resolved the dispute and led to the termination of the investigation. Complainants and RYN therefore submit that no remedy should be imposed on the defaulting parties, that there are no public interest concerns, and that a bond should not be imposed. The investigative attorney also filed a response to the Commission's request. She takes the position that, under the unique circumstances presented, no limited exclusion order or cease and desist order should issue against defaulting respondents.

Based on consideration of the record, including the responses of the parties to the Commission's request for briefing, the fact that Complainants do not seek relief against the defaulting respondents, and the settlement agreement between the Complainants and RYN, the Commission has determined not to issue a remedy against the defaulting respondents and has terminated the investigation in its entirety.

The authority for the Commission's determination is contained in section 337(g) of the Tariff Act of 1930, as amended (19 U.S.C. 1337(g)), and in section 210.21 of the Commission's Rules of Practice and Procedure (19 CFR 210.21).

By order of the Commission.
Issued: October 26, 2009.
Marilyn R. Abbott,
Secretary to the Commission.
William R. Bishop,
Acting Secretary to the Commission.

[FR Doc. E9-26060 Filed 10-28-09; 8:45 am]

BILLING CODE P